DEPARTMENT OF COMMERCE

National Oceanic and Atmospheric Administration

[RTID 0648-XC934]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council (MAFMC) will hold a meeting of the Ecosystem and Ocean Planning (EOP) Advisory Panel. See SUPPLEMENTARY INFORMATION for agenda details.

DATES: The meeting will be held on Monday, May 15, 2023, from 2 p.m. through 4 p.m.

ADDRESSES: The meeting will take place over webinar with a telephone-only connection option. Details on how to connect to the meeting will be posted at: www.mafmc.org.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: During this meeting, the EOP Advisory Panel will discuss development of a policy/process for MAFMC review of exempted fishing permit applications for species listed as ecosystem components under the Unmanaged Forage Omnibus Amendment. The Advisory Panel will review background information as well as a summary of an earlier EOP Committee meeting on the same topic. The Advisory Panel will then have the opportunity to provide feedback and input into the development of this policy/process. A detailed agenda and background documents will be made available on the Council's website (www.mafmc.org) prior to the meeting.

Special Accommodations

The meeting is physically accessible to people with disabilities. Requests for sign language interpretation or other auxiliary aid should be directed to Shelley Spedden, (302) 526-5251, at least 5 days prior to the meeting date.

Authority: 16 U.S.C. 1801 et seq.

Dated: April 20, 2023.
Rey Israel Marquez,
Acting Deputy Director, Office of Sustainable Fisheries, National Marine Fisheries Service.

[FR Doc. 2023-08673 Filed 4-24-23; 8:45 am]

BILLING CODE 3510-22-P